SMALL BUSINESS ADMINISTRATION

[Declaration of Disaster #3422]

State Of Indiana, Amendment # 2

In accordance with a notice received from the Federal Emergency Management Agency, dated July 9, 2002, the above numbered declaration is hereby amended to include Sullivan County in the State of Indiana as a disaster area due to damages caused by severe storms, tornadoes and flooding occurring April 28, 2002 through June 7, 2002.

All contiguous counties have been previously declared.

All other information remains the same, i.e., the deadline for filing applications for physical damage is August 12, 2002, and for economic injury the deadline is March 13, 2003.

(Catalog of Federal Domestic Assistance Program Nos. 59002 and 59008)
Dated: July 16, 2002.
Herbert L. Mitchell,
Associate Administrator for Disaster Assistance.

[FR Doc. 02-18519 Filed 7-22-02; 8:45 am]

BILLING CODE 8025-01-P